Title 3—

The President

Presidential Determination No. 2017-04 of December 2, 2016

Presidential Determination Pursuant to Section 570(a) of the Foreign Operations, Export Financing, and Related Programs Appropriations Act, 1997

Memorandum for the Secretary of State

By the authority vested in me as President by the Constitution and the laws of the United States, including section 570(a) of the Foreign Operations, Export Financing, and Related Programs Appropriations Act, 1997 (Public Law 104-208) (the “Act”), I hereby determine and certify, pursuant to section 570(a) of the Act, that Burma has made measurable and substantial progress in improving human rights practices and implementing democratic government.

You are authorized and directed to provide this determination and the accompanying Memorandum of Justification to the Congress and to publish the determination in the Federal Register.

THE WHITE HOUSE,

Washington, December 2, 2016

[FR Doc. 2016-31189

Filed 12-22-16; 8:45 am]

Billing code 4710-10-P